GENERAL SERVICES ADMINISTRATION

Public Buildings Service; Notice of Availability of Final Environmental Impact Statement; Proposed Federal Courthouse and Office Building, Eugene/Springfield Metro Area, Lane County, Oregon

Pursuant to section 102(2)(C) of the National Environmental Policy Act (NEPA) of 1969, as amended, as implemented by the Council on Environmental Quality (40 CFR Parts 1500-1508), the General Services Administration (GSA) has filed with the Environmental Protection Agency, and made available to other government and interested private parties, the Final Environmental Impact Statement (FEIS) for the proposed construction of a 265,290 gross square feet Courthouse and office building including 80 secured parking spaces, located in the urban center of either Eugene/Springfield, Lane County, Oregon.

The FEIS is on file and a copy may be obtained from U.S. General Services Administration, Region 10, Attention: Michael D. Levine, 10PCP, 400 15th Street, SW., Auburn, Washington 98001 (206) 931-7263. A summary of the FEIS can be viewed at the following website: www.northwest.gsa.gov/eugeneusch/intro.htm.

Dated: December 4, 2000.
L. Jay Pearson,
Regional Administrator (10A).

[FR Doc. 00-31965 Filed 12-14-00; 8:45 am]

BILLING CODE 6820-34-M